COMMODITY FUTURES TRADING COMMISSION

Agency Information Collection Activities: Notice of Intent To Renew Collection 3038-0055, Privacy of Consumer Financial Information

AGENCY: Commodity Futures Trading Commission.

ACTION: Notice.

SUMMARY: The Commodity Futures Trading Commission (CFTC) is announcing an opportunity for public comment on the proposed collection of certain information by the agency. Under the Paperwork Reduction Act of 1995 (PRA), 44 U.S.C. 3501 et seq., Federal agencies are required to publish notice in the Federal Register concerning each proposed collection of information, and to allow 60 days for comment in response to the notice. This notice solicits comments on requirements relating to information collected to assist the Commission in the prevention of market manipulation.

DATES: Comments must be submitted on or before April 30, 2004.

ADDRESSES: Comments may be mailed to Tribue Bland, Division of Clearing and Intermediary Oversight, U.S. Commodity Futures Trading Commission, 1155 21st Street, NW., Washington, DC 20581.

FOR FURTHER INFORMATION CONTACT: Tribue Bland, (202) 418-5466; FAX (202) 418-5536; e-mail: tbland@cftc.gov.

SUPPLEMENTARY INFORMATION: Under the PRA, Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA, 44 Section 3506(c)(2)(A), requires Federal Agencies to provide a 60-day notice in the Federal Register concerning each proposed collection of information, including each proposed extension of an existing collection of information, before submitting the collection to OMB for approval. To comply with this requirement, the CFTC is publishing notice of the proposed collection of information listed below.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality of, usefulness, and clarity of the information to be collected; and

• Ways to minimize the burden of collection of information on those who are to respond, including through the use of appropriate electronic, mechanical, or other technological collection techniques or other forms of information technology, e.g., permitting electronic submission of responses.

Privacy of Consumer Financial Information OMB Control No. 3038-0055—Extension

Section 124 of the Commodity Futures Modernization Act of 2000 (“CFMA”) amends the Commodity Exchange Act (the “Act”) and adds a new section 5g to the Act to make the Commission a Federal functional regulator for purposes of applying the provisions of Title V, Subtitle A of the Gramm-Leach-Bliley Act (“GLB Act”) addressing consumer privacy to any futures commission merchant, commodity trading advisor, commodity pool operator or introducing broker that is subject to the Commission's jurisdiction with respect to any financial activity. In general, Title V requires financial institutions to provide notice to consumers about the institution's privacy policies and practices, to restrict the ability of a financial institution to share nonpublic personal information about consumers to non-affiliated third parties, and to permit consumers to prevent the institution from disclosing nonpublic personal information about them to certain non-affiliated third parties by “opting out” of that disclosure. This rule implements the mandates of Section 124 and Title V of the GLB Act.

The Commission estimates the burden of this collection of information as follows:

Estimated Annual Reporting Burden

Number of Respondents: 4,128.

Total Annual Responses: 317,414.

Hours per Response: .27.

Total Annual Hours: 85,690.

Dated: February 23, 2004.
Jean A. Webb,
Secretary of the Commission.

[FR Doc. 04-4445 Filed 2-27-04; 8:45 am]

BILLING CODE 6351-01-M